DEPARTMENT OF COMMERCE

International Trade Administration

[A-570-900]

Diamond Sawblades and Parts Thereof From the People's Republic of China; Final Results of Antidumping Duty Administrative Review; 2012-2013

AGENCY: Enforcement and Compliance, International Trade Administration, Department of Commerce.

SUMMARY: On December 4, 2014, the Department of Commerce (the Department) published the preliminary results of the administrative review of the antidumping duty order on diamond sawblades and parts thereof (diamond sawblades) from the People's Republic of China (the PRC). The period of review (POR) is November 1, 2012, through October 31, 2013. For the final results, we continue to find that certain companies covered by this review made sales of subject merchandise at less than normal value.

DATES: Effective Date: June 8, 2015.

FOR FURTHER INFORMATION CONTACT: Michael Romani or Yang Jin Chun, AD/CVD Operations, Office I, Enforcement and Compliance, International Trade Administration, U.S. Department of Commerce, 14th Street and Constitution Avenue NW., Washington, DC 20230; telephone: (202) 482-0198 or (202) 482-5760, respectively.

SUPPLEMENTARY INFORMATION:

Background

On December 4, 2014, the Department published the preliminary results of the administrative review of the antidumping duty order on diamond sawblades from the PRC.¹ We received case and rebuttal briefs with respect to the Preliminary Results and, at the request of interested parties, held a hearing on April 15, 2015. We extended the due date for the final results of review to June 2, 2015.² We conducted this administrative review in accordance with section 751 of the Tariff Act of 1930, as amended (the Act).

¹ See Diamond Sawblades and Parts Thereof From the People's Republic of China: Preliminary Results of Antidumping Duty Administrative Review; 2012-2013, 79 FR 71980 (December 4, 2014) (Preliminary Results), and the accompanying Preliminary Decision Memorandum.

² See the memorandum to Associate Deputy Assistant Secretary Gary Taverman entitled “Diamond Sawblades and Parts Thereof from the People's Republic of China: Extension of Deadline for Final Results of Antidumping Duty Administrative Review” dated April 1, 2015, and the memorandum to Deputy Assistant Secretary Christian Marsh entitled “Diamond Sawblades and Parts Thereof from the People's Republic of China: Second Extension of Deadline for Final Results of Antidumping Duty Administrative Review” dated May 5, 2015.

Scope of the Order

The merchandise subject to the order is diamond sawblades. The diamond sawblades subject to the order are currently classifiable under subheadings 8202 to 8206 of the Harmonized Tariff Schedule of the United States (HTSUS), and may also enter under 6804.21.00. The HTSUS subheadings are provided for convenience and customs purposes. A full description of the scope of the order is contained in the Issues and Decision Memorandum.³ The written description is dispositive.

³ See the memorandum from Deputy Assistant Secretary Christian Marsh to Acting Assistant Secretary Ronald K. Lorentzen entitled “Issues and Decision Memorandum for the Administrative Review of the Antidumping Duty Order on Diamond Sawblades and Parts Thereof from the People's Republic of China” dated June 2, 2015, (Issues and Decision Memorandum) and hereby adopted by this notice, at 4-5.

Analysis of Comments Received

All issues raised in the case and rebuttal briefs by parties to this administrative review are addressed in the Issues and Decision Memorandum. A list of the issues raised is attached to this notice as an appendix. The Issues and Decision Memorandum is a public document and is on file electronically via Enforcement and Compliance's Antidumping and Countervailing Duty Centralized Electronic Service System (ACCESS). Access to ACCESS is available to registered users at http://access.trade.gov. The Issues and Decision Memorandum is also available to all parties in the Central Records Unit, room 7046 of the main Department of Commerce building. In addition, a complete version of the Issues and Decision Memorandum can be accessed directly on the Enforcement and Compliance Web site at http://enforcement.trade.gov/frn/index.html.

Final Determination of No Shipments

We preliminarily found that Qingdao Shinhan Diamond Industrial Co., Ltd. (Qingdao Shinhan), which has been eligible for a separate rate in previous segments of the proceeding and is subject to this review, did not have any reviewable entries of subject merchandise during the POR.⁴ After the Preliminary Results, we received no comments or additional information with respect to Qingdao Shinhan. Therefore, for the final results, we continue to find that Qingdao Shinhan did not have any reviewable entries of subject merchandise during the POR. Consistent with our “automatic assessment” clarification, we will issue appropriate instructions to CBP based on our final results.⁵

⁴ See Preliminary Results and the accompanying Preliminary Decision Memorandum at 5.

⁵ See Non-Market Economy Antidumping Proceedings: Assessment of Antidumping Duties, 76 FR 65694 (October 4, 2011) (Assessment Practice Refinement); see also the “Assessment” section of this notice, below.

Changes Since the Preliminary Results

Based on our analysis of comments received, we made revisions that have changed the results for certain companies, including the valuation of certain factors of production and the PRC-wide rate. Additionally, we made calculation programming changes for the final results. For further details on the changes we made for these final results, see the company-specific analysis memoranda, the Issues and Decision Memorandum, and the final surrogate value memorandum, dated concurrently with this notice.

Final Results of the Review

As a result of this administrative review, we determine that the following weighted-average dumping margins exist for the period November 1, 2012, through October 31, 2013:

⁶ During this segment of the proceeding, we identified certain name variations for several companies. See Preliminary Results, 79 FR at 71981, n.9, n.10, and n.11, and the accompanying Preliminary Decision Memorandum at 7-8.

Company ⁶ | Margin (percent)
Bosun Tools Co., Ltd | 1.51
Chengdu Huifeng Diamond Tools Co., Ltd | 2.34
Danyang City Ou Di Ma Tools Co., Ltd | 2.34
Danyang Huachang Diamond Tools Manufacturing Co., Ltd | 2.34
Danyang NYCL Tools Manufacturing Co., Ltd | 2.34
Danyang Tsunda Diamond Tools Co., Ltd | 2.34
Danyang Weiwang Tools Manufacturing Co., Ltd | 2.34
Guilin Tebon Superhard Material Co., Ltd | 2.34
Hangzhou Deer King Industrial and Trading Co., Ltd | 2.34
Hangzhou Kingburg Import & Export Co., Ltd | 2.34
Huzhou Gu's Import & Export Co., Ltd | 2.34
Jiangsu Fengtai Diamond Tool Manufacture Co., Ltd | 2.34
Jiangsu Inter-China Group Corporation | 2.34
Jiangsu Youhe Tool Manufacturer Co., Ltd | 2.34
Pujiang Talent Diamond Tools Co., Ltd | 2.34
Qingdao Hyosung Diamond Tools Co., Ltd | 2.34
Qingyuan Shangtai Diamond Tools Co., Ltd | 2.34
Quanzhou Zhongzhi Diamond Tool Co. Ltd | 2.34
Rizhao Hein Saw Co., Ltd | 2.34
Saint-Gobain Abrasives (Shanghai) Co., Ltd | 2.34
Shanghai Jingquan Ind. Trade Co., Ltd | 2.34
Shanghai Starcraft Tools Company Limited | 2.34
Weihai Xiangguang Mechanical Industrial Co., Ltd | 3.35
Wuhan Wanbang Laser Diamond Tools Co. | 2.34
Xiamen ZL Diamond Technology Co., Ltd | 2.34
Zhejiang Wanli Tools Group Co., Ltd | 2.34
PRC-Wide Entity ⁷ | 82.05

Assessment

⁷ The PRC-wide entity includes the following companies: ATM Single Entity, Central Iron and Steel Research Institute Group, China Iron and Steel Research Institute Group, Danyang Aurui Hardware Products Co., Ltd., Danyang Dida Diamond Tools Manufacturing Co., Ltd., Electrolux Construction Products (Xiamen) Co. Ltd., Fujian Quanzhou Wanlong Stone Co., Ltd., Hebei Jikai Industrial Group Co., Ltd., Huachang Diamond Tools Manufacturing Co., Ltd., Hua Da Superabrasive Tools Technology Co., Ltd., Jiangsu Fengyu Tools Co., Ltd., Jiangyin Likn Industry Co., Ltd., Protech Diamond Tools, Quanzhou Shuangyang Diamond Tools Co., Ltd., Quanzhou Zongzhi Diamond Tool Co. Ltd., Shanghai Deda Industry & Trading Co., Ltd., Shanghai Robtol Tool Manufacturing Co., Ltd., Shijiazhuang Global New Century Tools Co., Ltd., Sichuan Huili Tools Co., Task Tools & Abrasives, Wanli Tools Group, Wuxi Lianhua Superhard Material Tools Co., Ltd., Zhejiang Tea Import & Export Co., Ltd., Zhejiang Wanda Import and Export Co., Zhejiang Wanda Tools Group Corp., and Zhejiang Wanli Super-hard Materials Co., Ltd. ATM Single Entity includes Advanced Technology & Materials Co., Ltd. (ATM), Beijing Gang Yan Diamond Products Co. (BGY), Yichang HXF Circular Saw Industrial Co., Ltd. (currently HXF Saw Co., Ltd.) (HXF), Cliff (Tianjin) International Ltd (Cliff), and AT&M International Trading Co., Ltd. Cliff also used the company name Cliff International Ltd. See 3rd Review Prelim, 78 FR at 77099, n.4, and the accompanying Preliminary Decision Memorandum at 5, n.24, unchanged in 3rd Review Final for HXF's name change and Cliff's use of another company name.

Pursuant to section 751(a)(2)(A) of the Act and 19 CFR 351.212(b), the Department shall determine, and U.S. Customs and Border Protection (CBP) shall assess, antidumping duties on all appropriate entries covered by this review.⁸ For customers or importers of Weihai Xiangguang Mechanical Industrial Co., Ltd. (Weihai) for which we do not have entered values, we calculated customer-/importer-specific antidumping duty assessment amounts based on the ratio of the total amount of dumping duties calculated for the examined sales of subject merchandise to the total sales quantity of those same sales.⁹ For customers or importers of Bosun Tools Co., Ltd., and Weihai for which we received entered-value information, we have calculated customer/importer-specific antidumping duty assessment rates based on customer-/importer-specific ad valorem rates in accordance with 19 CFR 351.212(b)(1).

⁸ See 19 CFR 351.212(b)(1).

⁹ Id.

For all non-selected respondents that received a separate rate, we will instruct CBP to apply an antidumping duty assessment rate of 2.34 percent ¹⁰ to all entries of subject merchandise that entered the United States during the POR. For all other companies, except as described in Comment 2 of the Issues and Decision Memorandum, we will instruct CBP to apply the antidumping duty assessment rate of the PRC-wide entity, 82.05 percent, to all entries of subject merchandise exported by these companies.¹¹

¹⁰ See Issues and Decision Memorandum at 5-6.

¹¹ Effective March 22, 2013, a date which falls within the period of this administrative review, the Department partially revoked the antidumping duty order with respect to the entries of diamond sawblades from the PRC produced and exported by three members of the ATM Single Entity: ATM, BGY, and HXF. See Certain Frozen Warmwater Shrimp From the People's Republic of China and Diamond Sawblades and Parts Thereof From the People's Republic of China: Notice of Implementation of Determinations Under Section 129 of the Uruguay Round Agreements Act and Partial Revocation of the Antidumping Duty Orders, 78 FR 18958, 18959 n.10, 18960 (March 28, 2013) (Section 129 Partial Revocation). In connection with a temporary restraining order and subsequent injunction issued by the U.S. Court of International Trade in Court No. 09-00511, the Department had suspended entries of subject merchandise exported by the ATM Single Entity. See Section 129 Partial Revocation, 78 FR 18958, 18960 n.20. This injunction has dissolved as a result of the final and conclusive court decision in Advanced Technology & Materials Co., Ltd. et al. v. United States, Court No. 2014-1154 (Fed. Cir. Oct. 24, 2014). Accordingly, we intend to liquidate the entries of subject merchandise exported by the ATM Single Entity as explained in the Issues and Decision Memorandum at Comment 2.

Pursuant to a refinement to the Department's assessment practice in NME cases,¹² for entries that were not reported in the U.S. sales databases submitted by companies individually examined during this review, the Department will instruct CBP to liquidate such entries at the PRC-wide rate. In addition, for Qingdao Shinhan, the exporter that we determined had no reviewable entries of the subject merchandise in this review period, any suspended entries that entered under that exporter's case number (i.e., at that exporter's rate) will be liquidated at the PRC-wide rate.

¹² For a full discussion of this practice, see Assessment Practice Refinement.

We intend to issue assessment instructions to CBP 15 days after the date of publication of the final results of review.

Cash Deposit Requirements

The following cash deposit requirements will be effective upon publication of these final results of review for all shipments of the subject merchandise from the PRC entered, or withdrawn from warehouse, for consumption on or after the publication date as provided by section 751(a)(2)(C) of the Act: (1) For subject merchandise exported by the companies listed above that have separate rates, the cash deposit rate will be the rate established in these final results of review for each exporter as listed above; (2) for previously investigated or reviewed PRC and non-PRC exporters not listed above that received a separate rate in a prior segment of this proceeding, the cash deposit rate will continue to be the exporter-specific rate; (3) for all PRC exporters of subject merchandise that have not been found to be entitled to a separate rate, the cash deposit rate will be that for the PRC-wide entity, except as described in Comment 2 of the Issues and Decision Memorandum; ¹³ (4) for all non-PRC exporters of subject merchandise which have not received their own rate, the cash deposit rate will be the rate applicable to the PRC exporter that supplied that non-PRC exporter. These deposit requirements shall remain in effect until further notice.

¹³ Consistent with partial revocation of the order in Section 129 Partial Revocation and the dissolution of injunction pursuant to which incoming entries of subject merchandise from the ATM Single Entity remained suspended from liquidation, no cash deposits for estimated antidumping duties will be required for ATM, BGY, and HXF. See Section 129 Partial Revocation, 78 FR at 18959 n.10 and 18960 (“Accordingly, the Department will instruct CBP . . . to discontinue the collection of cash deposits for estimated antidumping duties for {ATM, BGY, and HXF}”).

Notification to Importers

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Administrative Protective Orders

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

These final results of review are issued and published in accordance with sections 751(a)(1) and 777(i) of the Act.

Dated: June 2, 2015.
Ronald K. Lorentzen,
Acting Assistant Secretary for Enforcement and Compliance.

Appendix

Summary

Background

Company Abbreviations

Other Abbreviations

Diamond Sawblades Administrative Determinations and Results

Scope of the Order

Surrogate Country

Separate Rates

Discussion of the Issues

Separate Rate

Untimely Filed Separate Rate Applications

Value-Added Tax

Differential Pricing

Surrogate Values

Request To Apply Adverse Facts Available

Recommendation

[FR Doc. 2015-13942 Filed 6-5-15; 8:45 am]

BILLING CODE 3510-DS-P